DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (Awe@) solicits review and comment from local, State, and Federal agencies, and the public on the following permit requests.

DATES: Comments on these permit applications must be received on or before November 14, 2005.

ADDRESSES: Written data or comments should be submitted to the U.S. Fish and Wildlife Service, Chief, Endangered Species, Ecological Services, 911 NE. 11th Avenue, Portland, Oregon 97232-4181 (telephone: (503) 231-2063; fax: (503) 231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents to the address above. Please refer to the respective permit number for each application when requesting copies of documents.

SUPPLEMENTARY INFORMATION:

Permit No. TE-063247.

Applicant: Sarah C. Powell, Sacramento, California.

The permittee requests an amendment to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species for the purpose of enhancing their survival.

Permit No. TE-111827.

Applicant: Tamra M. Nunes, Fresno, California.

The applicant requests a permit to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species for the purpose of enhancing their survival.

Permit No. TE-101743.

Applicant: Daniel Edelstein, Novato, California.

The applicant requests a permit to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species for the purpose of enhancing their survival.

Permit No. TE-108099.

Applicant: Jane Higginson, Lakeside, California.

The applicant requests a permit to take (survey by pursuit) the Quino checkerspot butterfly (Euphydryas editha quino) in conjunction with surveys throughout the range of the species for the purpose of enhancing its survival.

Permit No. TE-005956.

Applicant: U.S. Geological Survey Biological Resources Division, Western Fisheries Research Center, Reno, Nevada.

The permittee requests an amendment to take (harass by survey, capture, handle, and release) the Clover Valley speckled dace (Rhinichthys osculus oligoporus) in conjunction with population and distribution surveys throughout the range of the species for the purpose of enhancing its survival.

Permit No. TE-108093.

Applicant: Danielle Tannourji, San Diego, California.

The applicant requests a permit to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis); and take (survey by pursuit) the Quino checkerspot butterfly (Euphydryas editha quino) in conjunction with surveys throughout the range of each species for the purpose of enhancing their survival.

Permit No. TE-108683.

Applicant: Austin J. Pearson, Coarsegold, California.

The applicant requests a permit to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species for the purpose of enhancing their survival.

Permit No. TE-106344.

Applicant: The California Department of Parks and Recreation, Sacramento, California.

The applicant requests a permit to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species for the purpose of enhancing their survival.

Permit No. TE-110382.

Applicant: Ava Rosales, Mission Viejo, California.

The applicant requests a permit to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species for the purpose of enhancing their survival.

Permit No. TE-108681.

Applicant: Melissa M. Denena, San Jose, California.

The applicant requests a permit to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species for the purpose of enhancing their survival.

Permit No. TE-110095.

Applicant: John H. Davis IV, San Luis Obispo, California.

The applicant requests a permit to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis); and take (capture, relocate, and release) the Morro shoulderband snail (Helminthoglypta walkeriana) in conjunction with surveys and habitat enhancement activities throughout the range of each species for the purpose of enhancing their survival.

We solicit public review and comment on each of these recovery permit applications.

Dated: September 16, 2005.
Michael Fris,
Acting Manager, California/Nevada Operations Office, U.S. Fish and Wildlife Service.

[FR Doc. 05-20378 Filed 10-11-05; 8:45 am]

BILLING CODE 4310-55-P